ENVIRONMENTAL PROTECTION AGENCY

[OPP-2003-0217; FRL-7705-2]

Imazalil; Notice of Availability of the Amendment to the Imazalil RED

; Correction of Docket Number

AGENCY: Environmental Protection Agency (EPA).

ACTION: Notice.

SUMMARY: This notice announces EPA's amendment to the 2003 Reregistration Eligibility Decision (RED) for the pesticide imazalil and informs the public of a correction of the docket identification (ID) number.

FOR FURTHER INFORMATION CONTACT: Meghan French, Special Review and Reregistration Division (7508C), Office of Pesticide Programs, Environmental Protection Agency, 1200 Pennsylvania Ave., NW., Washington, DC 20460-0001; telephone number: (703) 308-8004; fax number: (703) 308-8005; e-mail address: french.meghan@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket ID number OPP-2003-0217. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm.119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Amendment and Correction Do?

The amendment to the Imazalil RED shows an updated label table that meets current EPA label language requirements. In addition, this amendment alerts the public and technical registrants that the special study to determine the availability of imazalil from treated citrus is no longer required, but that a data gap exists for OPPTS Harmonized Guideline 830.7050. EPA announced the availability of the Imazalil RED in the Federal Register of February 25, 2005 (70 FR 9317) (FRL-7700-9). In that document, the docket ID number was inadvertently listed as OPP-2004-0107. The correct docket ID number for imazalil is OPP-2003-0217.

List of Subjects

Environmental protection, Pesticides and pests.

Dated: March 9, 2005.
Peter Caulkins,
Acting Director, Special Review and Reregistration Division, Office of Pesticide Programs.

[FR Doc. 05-5208 Filed 3-15-05; 8:45 am]

BILLING CODE 6560-50- S